DEPARTMENT OF LABOR

Employment and Training Administration

[TA-W-56,329]

Spherion Corporation, Spherion Pacific Workforce Enterprise LLC, Spherion-Contact Center Solutions, Las Vegas Facility, Las Vegas, NV; Dismissal of Application for Reconsideration

Pursuant to 29 CFR 90.18(C) an application for administrative reconsideration was filed with the Director of the Division of Trade Adjustment Assistance for workers at Spherion Corporation, Spherion Pacific Workforce Enterprise LLC, Spherion-Contact Center Solutions, Las Vegas Facility, Las Vegas, Nevada. The application contained no new substantial information which would bear importantly on the Department's determination. Therefore, dismissal of the application was issued.

TA-W-56,329 Spherion Corporation, Spherion Pacific Workforce Enterprise LLC, Spherion-Contact Center Solutions, Las Vegas Facility, Las Vegas, Nevada (April 22, 2005)

Signed at Washington, DC, this 25th day of April 2005.
Timothy Sullivan,
Director, Division of Trade Adjustment Assistance.

[FR Doc. E5-2081 Filed 4-29-05; 8:45 am]

BILLING CODE 4510-30-P